DEPARTMENT OF HOMELAND SECURITY

Federal Emergency Management Agency

[Docket ID FEMA-2017-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of January 19, 2018 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: September 27, 2017.
Roy E. Wright,
Deputy Associate Administrator for Insurance and Mitigation, Department of Homeland Security, Federal Emergency Management Agency.

I. Watershed-based studies:

Community | Community map repository address
Lower Columbia Watershed
Clark County, Washington and Incorporated Areas Docket No.: FEMA-B-1630
City of Camas | City Hall, 616 North East 4th Avenue, Camas, WA 98607.
City of Washougal | City Hall, 1701 C Street, Washougal, WA 98671.
Unincorporated Areas of Clark County | Clark County, 1300 Franklin Street, Vancouver, WA 98660.
Upper Rogue Watershed
Jackson County, Oregon and Incorporated Areas Docket No.: FEMA-B-1650
City of Eagle Point | City Hall, 17 Buchanan Avenue South, Eagle Point, OR 97524.
City of Shady Cove | City Hall, 22451 Highway 62, Shady Cove, OR 97539.
Unincorporated Areas of Jackson County | Jackson County Development Services, 10 South Oakdale Avenue, Room 100, Medford, OR 97501.

II. Non-watershed-based studies:

Community | Community map repository address
Montgomery County, New York (All Jurisdictions) Docket No.: FEMA-B-1634
City of Amsterdam | City Hall, 61 Church Street, Amsterdam, NY 12010.
Town of Amsterdam | Amsterdam Town Office Building, 283 Manny's Corners Road, Amsterdam, NY 12010.
Town of Canajoharie | Canajoharie Town Office, 12 Mitchell Street, Canajoharie, NY 13317.
Town of Charleston | Charleston Municipal Building, 480 Corbin Hill Road, Sprakers, NY 12166.
Town of Florida | Florida Town Office Building, 214 Fort Hunter Road, Amsterdam, NY 12010.
Town of Glen | Glen Town Office, 7 Erie Street, Fultonville, NY 12072.
Town of Minden | Minden Municipal Town Building, 134 Highway 80, Fort Plain, NY 13339.
Town of Mohawk | Town of Mohawk, Richard A. Papa Office Building, 2-4 Park Street, Fonda, NY 12068.
Town of Palatine | Palatine Town Office, 141 West Grand Street, Palatine Bridge, NY 13428.
Town of Root | Root Town Office, 1048 Carlisle Road, Sprakers, NY 12166.
Town of St. Johnsville | St. Johnsville Town Office, 7431 State Highway 5, St. Johnsville, NY 13452.
Village of Ames | Village Office, 595 Latimer Hill Road, Ames, NY 13317.
Village of Canajoharie | Canajoharie Village Office, 75 Erie Boulevard, Canajoharie, NY 13317.
Village of Fonda | Municipal Building, 8 East Main Street, Fonda, NY 12068.
Village of Fort Johnson | Municipal Building, 1 Prospect Street, Fort Johnson, NY 12070.
Village of Fort Plain | Village Hall, 168 Canal Street, Fort Plain, NY 13339.
Village of Fultonville | Village Court Municipal Building, 10 Erie Street, Fultonville, NY 12072.
Village of Hagaman | Pawling Hall, 86 Pawling Street, Hagaman, NY 12086.
Village of Nelliston | Village Municipal Building, 11 River Street, Nelliston, NY 13410.
Village of Palatine Bridge | Village Office, 11 West Grand Street, Palatine Bridge, NY 13428.
Village of St. Johnsville | St. Johnsville Village Office, 16 Washington Street, St. Johnsonville, NY 13452.

[FR Doc. 2017-22024 Filed 10-11-17; 8:45 am]

BILLING CODE 9110-12-P